DEPARTMENT OF COMMERCE

Foreign-Trade Zones Board

[S-90-2016]

Approval of Expanded Subzone Status; Space Systems/Loral, LLC, Palo Alto, Menlo Park, Mountain View and San Jose, California

On June 22, 2016, the Executive Secretary of the Foreign-Trade Zones (FTZ) Board docketed an application submitted by the City of San Jose, California, grantee of FTZ 18, requesting expanded subzone status subject to the existing activation limit of FTZ 18, on behalf of Space Systems/Loral, LLC, in San Jose, California.

The application was processed in accordance with the FTZ Act and Regulations, including notice in the Federal Register inviting public comment (81 FR 42650, June 30, 2016). The FTZ staff examiner reviewed the application and determined that it meets the criteria for approval. Pursuant to the authority delegated to the FTZ Board Executive Secretary (15 CFR Sec. 400.36(f)), the application to expand Subzone 18E is approved, subject to the FTZ Act and the Board's regulations, including Section 400.13, and further subject to FTZ 18's 2,000-acre activation limit.

Dated: August 10, 2016.
Andrew McGilvray,
Executive Secretary.

[FR Doc. 2016-19518 Filed 8-15-16; 8:45 am]

BILLING CODE 3510-DS-P